DEPARTMENT OF HEALTH AND HUMAN SERVICES

Centers for Medicare and Medicaid Services

[Document Identifier: CMS-R-250 and CMS-276]

Agency Information Collection Activities: Proposed Collection; Comment Request

AGENCY: Centers for Medicare and Medicaid Services, HHS.

In compliance with the requirement of section 3506(c)(2)(A) of the Paperwork Reduction Act of 1995, the Centers for Medicare and Medicaid Services (CMS) (formerly known as the Health Care Financing Administration (HCFA)), Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

1. Type of Information Collection Request: Extension of a currently approved collection; Title of Information Collection: SNF Resident Assessment MDS Data and Supporting Regulations in 42 CFR, Sections 413.337, 413.343, 424.32, and 483.20; Form No.: CMS-R-250 (OMB# 0938-0739); Use: Skilled Nursing Facilities (SNFs) are required to submit the resident assessment data as described at 42 CFR 483.20 in the manner necessary to administer the payment rate methodology described in 42 CFR 413.337. Pursuant to sections 4204(b) and 4214(d) of OBRA 1987, the current requirements related to the submission and retention of resident assessment data for the 5th, 30th, 60th, and 90th days following admission, necessary to administer the payment rate methodology described in Section 413.337, are subject to the Paperwork Reduction Act. The burden associated with this is the SNF staff time required to complete the Minimum Data Set (MDS), SNF staff time to encode, and SNF staff time spent in transmitting the data.; Frequency: Monthly; Affected Public: Business or other for-profit, and not-for-profit institutions; Number of Respondents: 17,000; Total Annual Responses: 2,657,859; Total Annual Hours: 1,993,394.

2. Type of Information Collection Request: Revision of a currently approved collection; Title of Information Collection: Prepaid Health Plan Cost Report; Form No.: CMS-276 (OMB# 0938-0165); Use: These forms are needed to establish the reasonable cost of providing covered services to the enrolled Medicare population of an HMO in accordance with Section 1876 of the Social Security Act; Frequency: Quarterly, Annually; Affected Public: Business or other for-profit; Number of Respondents: 30 (see breakdown in Supporting Documentation for clarification); Total Annual Responses: 180 (see breakdown in Supporting Documentation); Total Annual Hours: 7,860.

To obtain copies of the supporting statement and any related forms for the proposed paperwork collections referenced above, access CMS's Web site address at http://www.hcfa.gov/regs/prdact95.htm, or e-mail your request, including your address, phone number, OMB number, and CMS document identifier, to Paperwork@hcfa.gov, or call the Reports Clearance Office on (410) 786-1326. Written comments and recommendations for the proposed information collections must be mailed within 60 days of this notice directly to the CMS Paperwork Clearance Officer designated at the following address: CMS, Office of Strategic Operations and Regulatory Affairs, Division of Regulations Development and Issuances, Attention: Dawn Willinghan, Room N2-14-26, 7500 Security Boulevard, Baltimore, Maryland 21244-1850.

Dated: September 12, 2002.
John P. Burke III,
Paperwork Reduction Act Team Leader, CMS Reports Clearance Officer, Office of Strategic Operations and Strategic Affairs, Division of Regulations Development and Issuances.

[FR Doc. 02-23978 Filed 9-19-02; 8:45 am]

BILLING CODE 4120-03-P